NATIONAL SCIENCE FOUNDATION

Proposal Review Panel for Ocean Sciences Notice of Meeting

In accordance with the Federal Advisory Committee Act (Pub. L. 92-463, as amended), the National Science Foundation announces the following meeting:

Name: Proposal Review Panel for Ocean Sciences (#10752) Site Visit.

Date & Time: February 24-26, 2016, 9:00 a.m.-5:00 p.m.

Place: JOIDES Resolution Science Operator (JRSO), Texas A&M University, 1000 Discovery Drive, Texas A&M University West Campus, College Station, TX 77845, Conference Room C126.

Type of Meeting: Part-Open.

Contact Person: James F. Allan, Program Director, Ocean Drilling, Division of Ocean Sciences; National Science Foundation, 4201 Wilson Blvd., Arlington, VA 22230. Telephone: (703) 292-8144.

Purpose of Meeting: Site visit to provide advice and recommendations concerning the performance of the International Ocean Discovery Program (IODP) drillship facility JOIDES Resolution during FY 2015.

Agenda

Wednesday, February 24

9:00 a.m.-9:15 a.m. NSF and panel introduction

9:15 a.m.-11:00 a.m. Initial Report of the JOIDES Resolution Science Operator (JRSO)

11:00 a.m.-12:00 p.m. Co-Chief Review Report

12:00 p.m.-1:00 p.m. Lunch

1:00 p.m.-3:00 p.m. JRSO response to Co-Chief Review Report

3:00 p.m.-5:00 p.m. Site Visit Panel discussion of presentations and overnight questions to JRSO (CLOSED SESSION)

Thursday, February 25

9:00 a.m.-10:00 a.m. Response of JRSO to Panel questions

10:00 a.m.-12:00 p.m. JRSO discussion of major challenges in operational context, and how they are responding

12:00 p.m.-1:00 p.m. Lunch

1:00 p.m.-3:00 p.m. JRSO discussion of major challenges in providing services and innovation to IODP science community, and how they are responding

3:00 p.m.-3:30 p.m. Break

3:30 p.m.-5:00 p.m. Site Visit Panel discussion of major challenges and overnight questions to JRSO (CLOSED SESSION)

Friday, February 26

9:00 a.m.-10:00 a.m. Response of JRSO to Panel questions

10:00 a.m.-12:00 p.m. Site Visit Panel discussion; work on report (CLOSED SESSION)

12:00 p.m.-1:00 p.m. Lunch (CLOSED SESSION)

1:00 p.m.-3:30 p.m. Site Visit Panel discussion; work on report (CLOSED SESSION)

3:30 p.m.-4:00 p.m. Break

4:00 p.m.-5:00 p.m. Site Visit Panel presents report and recommendations to JRSO (CLOSED SESSION)

Reason for Closing: During closed sessions the review will include information of a confidential nature, including technical information; financial data, such as salaries; and personal information concerning individuals associated with the proposals. These matters are exempt under 5 U.S.C. 552b(c), (4) and (6) of the Government in the Sunshine Act.

Dated: January 20, 2016.
Crystal Robinson,
Committee Management Officer.

[FR Doc. 2016-01433 Filed 1-25-16; 8:45 am]

BILLING CODE 7555-01-P